DEPARTMENT OF ENERGY

Federal Energy Regulatory Commission

[Docket No. RP01-329-001]

Questar Pipeline Company; Notice of Compliance Filing

May 10, 2001.

Take notice that on May 4, 2001, Questar Pipeline Company (Questar) tendered for filing to as part of its FERC Gas Tariff, First Revised Volume No. 1, Substitute Third Revised Sheet No. 99E, to be effective May 1, 2001.

Questar states that this filing was tendered in compliance with the Commission's Order issued April 26, 2001, in Docket No. RP01-329-000, which directed that one correction be made to Questar's Order No. 587-M compliance filing in Docket No. RM96-1-015 filed March 30, 2001.

Questar states that a copy of this filing has been served upon its customers, the Public Service Commission of Utah and the Public Service Commission of Wyoming.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12292 Filed 5-15-01; 8:45 am]

BILLING CODE 6717-01-M